DEPARTMENT OF COMMERCE

National Oceanic and Atmospheric Administration

Proposed Information Collection; Comment Request; Characterization of the U.S. Recreational Fishery for Atlantic White Marlin

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 16, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to: Eric D. Prince, (305) 361-4248, eric.prince@noaa.gov.

SUPPLEMENTARY INFORMATION:

I. Abstract

According to the International Commission for the Conservation of Atlantic Tunas (ICCAT), Atlantic white marlin has been severely overfished for several decades and the stock continues to decline. These unfortunate circumstances have prompted several conservation groups to petition NOAA Fisheries to list white marlin under the Endangered Species Act (ESA). One of the main objectives of the Atlantic Billfish Research Plan (http://www.sefsc.noaa.gov/PDFdocs/ABRP_01_30_04.pdf) is to develop better information for management and rebuilding of the stocks. This project is designed to investigate characteristics of the offshore recreational white marlin fishery, including identification of specific fishing techniques and potential variables that might be included in post-release survival experiments. Specific in-depth knowledge of fishing techniques is essential to evaluate recreational fishing impacts and to develop relevant research and management approaches to reduce mortality for this sector of the fishery.

Information will be obtained through a survey and complemented and confirmed by on-board observers in the Ocean City, Maryland area, which is known as the “White Marlin Capital of the World.” The project will serve as a pilot program to develop and hone survey techniques and gain general acceptance for the survey through meetings, face-to-face dialogue and word of mouth. It is important to develop rapport with the boat captains and mates to obtain information on the methods and specific techniques used to catch white marlin, which might be closely guarded information. This work attempts to form a current and knowledgeable information source on which to base appropriate research and conservation measures relative to the U.S. recreational fishery for Atlantic white marlin.

II. Method of Collection

Paper applications, electronic reports, and telephone calls are required from participants, and methods of submittal include Internet and facsimile transmission of paper forms.

III. Data

OMB Number: None.

Form Number: None.

Type of Review: Regular submission.

Affected Public: Not-for-profit institutions and business or other for-profit organizations.

Estimated Number of Respondents: 500.

Estimated Time Per Response: 10 minutes.

Estimated Total Annual Burden Hours: 85.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 10, 2005.
Gwellnar Banks,
Management Analyst, Office of the Chief Information Officer.

[FR Doc. 05-5243 Filed 3-16-05; 8:45 am]

BILLING CODE 3510-22-P